DEPARTMENT OF TRANSPORTATION

Federal Highway Administration

Environmental Impact Statement: Dallas County, TX

AGENCY: Federal Highway (FHWA), DOT.

ACTION: Notice of intent.

SUMMARY: The FHWA is issuing this notice to advise the public that an environmental impact statement will be prepared for a proposed transportation project in Dallas County, Texas.

FOR FURTHER INFORMATION CONTACT: Mr. Salvador Deocampo, District Engineer (North), Federal Highway Administration, 300 E. 8th Street, Room 826, Austin, Texas 78701, Telephone 512-536-5950.

SUPPLEMENTARY INFORMATION: The FHWA, in cooperation with the Texas Department of Transportation (TxDOT), will prepare an Environmental Impact Statement (EIS) for State Highway (SH) 190 (The East Branch) from Interstate Highway (IH) 30 to IH 20 within southeast Dallas County. The corridor is approximately 11 miles in length. From a regional and local perspective, there is an increasing demand for additional transportation capacity and access through the corridor. In the last 30 years, southeast Dallas County has experienced growth in population and employment and this trend is expected to continue.

Previous feasibility studies and Mobility 2025 Metropolitan Transportation Plan—Amended April 2005, the Metropolitan Transportation Plan (MTP) for the Dallas-Fort Worth region, has examined a full range of alternatives and alignments within the corridor. SH 190 is included in the current MTP as a new location six-lane roadway. The environmental study will examine viable alternatives and potential transportation modes including the No-Build and the potential for toll-application to the build alternative alignments. All alternative alignments begin at or near the proposed IH 30/President George Bush Turnpike interchange and proceed south toward and ultimately terminate at IH 20. These proposed alternatives would be contained within a corridor generally bounded to the east by the Dallas/Kaufman County Line and the west by Bobtown Road in Garland, Collins Road and Clay Road in Sunnyvale, and Clay-Mathis Road and Lawson Road in Mesquite. The project has included public involvement to address the long-term mobility needs of both the region and local community. The environmental study will include the determination of the number of lands, roadway configuration, and operational characteristics. It will also include a discussion of the effect of the social, economic, and natural environments and of other known and reasonably foreseeable agency actions proposed within the SH 190/East Branch Corridor. If a build alternative is selected, and if it is determined to be a viable project, TxDOT shall construct and operate the facility. Issues relative to the project include noise, archaeological sites, historic properties, socio-economic effects, changes to travel patterns, air quality, water quality, floodplains, and wetlands.

Letters describing the proposed action and soliciting comments will be sent to appropriate Federal, State, regional, and local agencies, and to organizations and persons who have previously expressed or are known to have interest in this proposed. In addition to public meetings, a future public hearing will be held. Public notice will be given of the time and place of the meetings and the hearing. The Draft EIS will be available for public and agency review and comments before the hearing.

A public scoping meeting in an Open House format with no formal presentation will be conducted on Tuesday, July 26, 2005, between the hours of 4 p.m. and 8 p.m. at the Mesquite Convention Center and Rodeo Center located at 1700 Rodeo Drive, Mesquite, Texas 75149. This will be the first in a series of meetings to solicit public comments on the proposed action as part of the National Environmental Policy Act (NEPA) process. Persons interested in attending this meeting who have special communication or accommodation needs are encouraged to contact the local TxDOT Public Information Office at (214) 320-6100 at least two days prior to the meeting. Because the public meeting will be conducted in English, any request for language interpreters or other special communication needs should also be made at least two days prior to the public meeting. Every reasonable effort will be made to accommodate these needs.

To ensure that the full range of issues related to this proposed action are addressed and all significant issues identified, comments and suggestions are invited from all interested parties. Comments or questions concerning this proposed action and the EIS should be directed to the FHWA at the address provided above. Additional project information may be obtained by visiting the project's Web site at http://www.theeastbranch.org.

(Catalogue of Federal Domestic Assistance Programs Number 20.205, Highway Planning and Construction. The regulations implementing Executive Order 12372 regarding intergovernmental consultation of Federal programs and activities apply to this program.)

Salvador Deocampo,
District Engineer (North), Austin, Texas.

[FR Doc. 05-12988 Filed 6-30-05; 8:45 am]

BILLING CODE 4910-22-M